NUCLEAR REGULATORY COMMISSION

10 CFR Part 110

RIN 3150-AH21

General License for Import of Major Nuclear Reactor Components

AGENCY: Nuclear Regulatory Commission.

ACTION: Proposed rule.

SUMMARY: The Nuclear Regulatory Commission (NRC) proposes to amend its regulations to issue a general license for the import of major components of utilization facilities for end-use at NRC-licensed reactors. The amendment is necessary to facilitate imports of major components of domestic nuclear reactors in furtherance of protection of public health and safety and will also reduce unnecessary regulatory burdens related to the maintenance of NRC-licensed reactors. In the Rules and Regulations section of this Federal Register, the NRC is publishing a direct final rule on this subject, because the Agency views this action as noncontroversial and anticipates that it will not receive significant adverse comments. A detailed rationale for the rulemaking is set forth in the direct final rule notice. If the NRC does not receive any significant adverse comments on this rule, then the rule will become final on August 11, 2003, without further proceedings. If the NRC receives significant material and adverse comments, the direct final rule will be withdrawn and the NRC will address all public comments received in a later final rule based on this proposed rule. The NRC will not begin a second comment period.

DATES: The comment period for this proposed rule ends on June 27, 2003. Comments received after this date will be considered if it is practical to do so, but the NRC is able to ensure only that comments received on or before this date will be considered.

ADDRESSES: You may submit comments by any one of the following methods. Please include the following number [RIN 3150-AH21] in the subject line of your comments. Comments on rulemakings submitted in writing or in electronic form will be made available to the public in their entirety on the NRC rulemaking Web site. Personal information will not be removed from your comments.

Mail comments to: Secretary, U.S. Nuclear Regulatory Commission, Washington, DC 20555-0001, ATTN: Rulemakings and Adjudications Staff.

E-mail comments to: SECY@nrc.gov. If you do not receive a reply e-mail confirming that we have received your comments, contact us directly at (301) 415-1966. You may also submit comments via the NRC's rulemaking Web site at http://ruleforum.llnl.gov. Address questions about our rulemaking Web site to Carol Gallagher, (301) 415-5905; e-mail CAG@nrc.gov.

Hand deliver comments to: 11555 Rockville Pike, Rockville, Maryland 20852, between 7:30 am and 4:15 p.m. on Federal workdays.

Fax comments to: Secretary, U.S. Nuclear Regulatory Commission at (301) 415-1101.

Publicly available documents related to this rulemaking may be examined and copied for a fee at the NRC's Public Document Room (PDR), Public File Area O1 F21, One White Flint North, 11555 Rockville Pike, Rockville, Maryland. Selected documents, including comments, can be viewed and downloaded electronically via the NRC's rulemaking Web site at http://ruleforum.llnl.gov.

Publicly available documents created or received at the NRC are available electronically at the NRC's Electronic Reading Room at http://www.nrc.gov/NRC/reading-rm/adams.html. From this site, the public can gain entry into the NRC's Agencywide Document Access and Management System (ADAMS), which provides text and image files of NRC's public documents. If you do not have access to ADAMS or if there are problems in accessing the documents located in ADAMS, contact the NRC Public Document Room (PDR) Reference staff at 1-800-397-4209, 301-415-4737 or by e-mail to PDR@nrc.gov.

FOR FURTHER INFORMATION CONTACT: Grace H. Kim, Senior Attorney, Office of the General Counsel, U.S. Nuclear Regulatory Commission, Washington, DC 20555-0001, telephone (301) 415-3605, e-mail GHK@nrc.gov.

SUPPLEMENTARY INFORMATION: See the information provided in the direct final rule of the same title, which is found in the Rules and Regulations section of this Federal Register.

Dated at Rockville, Maryland, this 9th day of May, 2003.
For the Nuclear Regulatory Commission.
William D. Travers,
Executive Director For Operations.

[FR Doc. 03-13217 Filed 5-27-03; 8:45 am]

BILLING CODE 7590-01-P